DEPARTMENT OF STATE

[Public Notice: 12749]

Determinations Regarding Use of Chemical Weapons by Sudan Under the Chemical and Biological Weapons Control and Warfare Elimination Act of 1991

SUMMARY: The Senior Official performing the functions of the Under Secretary for Arms Control and International Security, acting under authority delegated pursuant to an Executive order, has determined pursuant to section 306(a) of the Chemical and Biological Weapons Control and Warfare Elimination Act of 1991 (the Act), 22 U.S.C. 5604(a), that the Government of Sudan has used chemical weapons in violation of international law. In addition, the Senior Official performing the functions of the Under Secretary for Arms Control and International Security has determined and certified to Congress pursuant to section 307(d) of the Act (22 U.S.C. 5605(d)) that it is essential to the national security interests of the United States to partially waive the application of the sanctions required under section 307(a) of the Act with respect to foreign assistance, licenses and other authorizations for the export of items on the U.S. Munitions List (USML), and the licensing of national security-sensitive goods and technology. The following is a notice of the sanctions to be imposed pursuant to section 307(a) of the Act, subject to these waivers.

DATES: This notice is effective on June 27, 2025.

FOR FURTHER INFORMATION CONTACT: Pamela K. Durham, Office of Missile, Biological, and Chemical Nonproliferation, Bureau of International Security and Nonproliferation, Department of State, Telephone (202) 647-4930.

SUPPLEMENTARY INFORMATION: Pursuant to sections 306(a), 307(a), and 307(d) of the Chemical and Biological Weapons Control and Warfare Elimination Act of 1991 (22 U.S.C. 5604(a), 5605(a), and 5605(d)), on April 24, 2025 the Senior Official performing the functions of the Under Secretary for Arms Control and International Security determined that the Government of Sudan has used chemical or biological weapons in violation of international law or lethal chemical or biological weapons against its own nationals. As a result, the following sanctions are hereby imposed:

1. Foreign Assistance: Termination of assistance to Sudan under the Foreign Assistance Act of 1961, except for urgent humanitarian assistance and food or other agricultural commodities or products.

The Senior Official performing the functions of the Under Secretary for Arms Control and International Security has determined that it is essential to the national security interests of the United States to waive the application of this restriction.

2. Arms Sales: Termination of (a) sales to Sudan under the Arms Export Control Act of any defense articles, defense services, or design and construction services, and (b) licenses for the export to Sudan of any item on the United States Munitions List.

The Senior Official performing the functions of the Under Secretary for Arms Control and International Security has determined that it is essential to the national security interests of the United States to partially waive the application this sanction to allow for case-by-case adjudication of licenses or other authorizations for defense articles and defense services for entities other than the Government of Sudan on a case-by-case basis for the purposes described pursuant to section 126.1(v) of the International Traffic in Arms Regulations (ITAR).

3. Arms Sales Financing: Termination of all foreign military financing for Sudan under the Arms Export Control Act.

4. Denial of United States Government Credit or Other Financial Assistance: Denial to Sudan of any credit, credit guarantees, or other financial assistance by any department, agency, or instrumentality of the United States Government, including the Export-Import Bank of the United States.

5. Exports of National Security-Sensitive Goods and Technology: Prohibition on the export to Sudan of any goods or technology controlled for National Security (NS) reasons on the Commerce Control List (CCL) established under 50 U.S.C. 4813(a)(1).

The Senior Official performing the functions of the Under Secretary for Arms Control and International Security has determined that it is essential to the national security interests of the United States to waive the application of this sanction in order to allow the authorization of exports or re-exports of NS-controlled goods or technology to Sudan in accordance with the following policies:

License Exceptions: Exports and re-exports of NS-controlled goods or technology on the CCL may be authorized under License Exceptions GOV, ENC, BAG, TMP, RPL, TSU and ACE, as described in 15 CFR part 740.

Safety of Flight: Exports and re-exports of NS-controlled goods or technology may be authorized pursuant to new licenses when necessary for the safety of flight of civil fixed-wing passenger aviation, provided that such licenses shall be issued consistent with export licensing policy for Sudan prior to the date of the determination.

Deemed Exports/Re-Exports: Exports and re-exports of goods or technology may be authorized pursuant to new licenses for deemed exports and re-exports to Sudanese nationals, provided that such licenses shall be issued consistent with export licensing policy for Sudan prior to the date of the determination.

Wholly-Owned U.S. and Other Foreign Subsidiaries: Exports and re-exports of NS controlled goods or technology may be authorized pursuant to new licenses for exports and re-exports to wholly-owned U.S. and other foreign subsidiaries in Sudan, provided that such licenses shall be issued consistent with export licensing policy for Sudan prior to the date of the determination.

These measures shall be implemented by the responsible departments and agencies of the United States government and will remain in place for at least one year and until further notice.

Paul S. Watzlavick,
Senior Official performing the functions of the Assistant Secretary Bureau of International Security and Nonproliferation Department of State.

[FR Doc. 2025-11896 Filed 6-26-25; 8:45 am]

BILLING CODE 4710-27-P